DEPARTMENT OF ENERGY

Federal Energy Regulatory Commission

Combined Notice of Filings #1

Take notice that the Commission received the following electric rate filings:

Docket Numbers: ER10-1483-001.

Applicants: Dominion Energy Kewaunee, Inc.

Description: Supplement to June 29, 2012 Market Power Analyses Report of Dominion Energy Kewaunee, Inc.

Filed Date: 6/17/13.

Accession Number: 20130617-5076.

Comments Due: 5 p.m. ET 8/13/13.

Docket Numbers: ER10-1483-003, ER10-2386-002; ER10-1823-002; ER10-1462-002; ER10-1996-002; ER10-1802-001; ER10-2413-002; ER10-2309-002; ER10-1917-002; ER13-1403-002; ER10-2458-002; ER10-2468-003.

Applicants: Dominion Energy Kewaunee, Inc., Fairless Energy, LLC, Dominion Energy Marketing, Inc., Dominion Energy Brayton Point, LLC, Dominion Energy Kewaunee, Inc., Dominion Retail, Inc., Dominion Energy Manchester Street, Inc., Kincaid Generation, L.L.C., Elwood Energy, LLC, Dominion Nuclear Connecticut, Inc., Dominion Bridgeport Fuel Cell, LLC, NedPower Mount Storm, LLC, Fowler Ridge Wind Farm LLC.

Description: Second Supplement to June 29, 2012 Market Power Analyses Report of Dominion Energy Kewaunee, Inc., et al.

Filed Date: 6/28/13.

Accession Number: 20130628-5319.

Comments Due: 5 p.m. ET 8/13/13.

Docket Numbers: ER13-101-003.

Applicants: Midcontinent Independent System Operator, Inc.

Description: 07-22-13 ATCLLC Order 1000 Compliance to be effective 12/31/9998.

Filed Date: 7/22/13.

Accession Number: 20130722-5157.

Comments Due: 5 p.m. ET 8/21/13.

Docket Numbers: ER13-198-002.

Applicants: PJM Interconnection, L.L.C.

Description: PJM Order 1000 Compliance filing per 3/22/2013 Order in Docket No. ER13-198-000 to be effective 1/1/2014.

Filed Date: 7/22/13.

Accession Number: 20130722-5164.

Comments Due: 5 p.m. ET 8/21/13.

Docket Numbers: ER13-690-003.

Applicants: Public Service Company of New Mexico.

Description: Attachment H Compliance Filing to be effective 8/2/2011.

Filed Date: 7/22/13.

Accession Number: 20130722-5128.

Comments Due: 5 p.m. ET 8/12/13.

Docket Numbers: ER13-690-004.

Applicants: Public Service Company of New Mexico.

Description: Public Service Company of New Mexico submits Attachment H Compliance to be effective 8/2/2013.

Filed Date: 7/23/13.

Accession Number: 20130723-5074.

Comments Due: 5 p.m. ET 8/13/13.

Docket Numbers: ER13-1366-000.

Applicants: Public Service Company of New Mexico.

Description: Public Service Company of New Mexico submits Gallup Refund Report to be effective N/A.

Filed Date: 7/23/13.

Accession Number: 20130723-5065.

Comments Due: 5 p.m. ET 8/13/13.

Docket Numbers: ER13-1631-000.

Applicants: Midcontinent Independent System Operator, Inc.

Description: Errata to June 4, 2013 Request for Waiver of certain tariff provisions of Midcontinent Independent System Operator, Inc.

Filed Date: 7/22/13.

Accession Number: 20130722-5191.

Comments Due: 5 p.m. ET 8/12/13.

Docket Numbers: ER13-1747-001.

Applicants: eBay Inc.

Description: eBay Inc. submits Amendment to MBR Application to be effective 8/26/2013.

Filed Date: 7/23/13.

Accession Number: 20130723-5096.

Comments Due: 5 p.m. ET 8/13/13.

Docket Numbers: ER13-2000-000.

Applicants: Northern States Power Company, a Minnesota corporation.

Description: 2013-7-22_CAPX_LaX-MN_CMA-557-0.0.0-Filing to be effective 12/21/2012.

Filed Date: 7/22/13.

Accession Number: 20130722-5125.

Comments Due: 5 p.m. ET 8/12/13.

Docket Numbers: ER13-2001-000.

Applicants: PJM Interconnection, L.L.C.

Description: Queue Position Y1-057; Original Service Agreement No. 3602 to be effective 6/21/2013.

Filed Date: 7/22/13.

Accession Number: 20130722-5129.

Comments Due: 5 p.m. ET 8/12/13.

Docket Numbers: ER13-2002-000.

Applicants: Northern States Power Company, a Minnesota corporation.

Description: 2013-7-22_CAPX-LaX-MN-OMA-558-0.0.0-Filing to be effective 12/21/2012.

Filed Date: 7/22/13.

Accession Number: 20130722-5130.

Comments Due: 5 p.m. ET 8/12/13.

Docket Numbers: ER13-2003-000.

Applicants: Northern States Power Company, a Minnesota corporation.

Description: 2013-7-22_CAPX_LaX-MN_TCEA-559-0.0.0—Filing to be effective 12/21/2012.

Filed Date: 7/22/13.

Accession Number: 20130722-5132.

Comments Due: 5 p.m. ET 8/12/13.

Docket Numbers: ER13-2004-000.

Applicants: Northern States Power Company, a Wisconsin corporation.

Description: 2013-7-22_LaX-WI-TCEA-Concur-to-559-0.0.0—Filing to be effective 12/21/2012.

Filed Date: 7/22/13.

Accession Number: 20130722-5163.

Comments Due: 5 p.m. ET 8/12/13.

Docket Numbers: ER13-2005-000.

Applicants: Midcontinent Independent System Operator, Inc.

Description: 2013-07-22 OASIS Errata Compliance to be effective4/15/2013.

Filed Date: 7/23/13.

Accession Number: 20130723-5001.

Comments Due: 5 p.m. ET 8/13/13.

Docket Numbers: ER13-2006-000.

Applicants: Duke Energy Florida, Inc.

Description: Cancellation of DEF Rate Schedule No. 167 to be effective9/30/2012.

Filed Date: 7/23/13.

Accession Number: 20130723-5030.

Comments Due: 5 p.m. ET 8/13/13.

Docket Numbers: ER13-2007-000.

Applicants: PJM Interconnection, L.L.C.

Description: First Revised Service Agreement No. 3396; Queue No. V4-009 to be effective 3/4/2013.

Filed Date: 7/23/13.

Accession Number: 20130723-5032.

Comments Due: 5 p.m. ET 8/13/13.

Docket Numbers: ER13-2008-000.

Applicants: Midcontinent Independent System Operator, Inc.

Description: 07-23-13 SA 2525 SMEPA to be effective 12/19/2013.

Filed Date: 7/23/13.

Accession Number: 20130723-5038.

Comments Due: 5 p.m. ET 8/13/13.

Docket Numbers: ER13-2009-000.

Applicants: Duke Energy Progress, Inc.

Description: Duke Energy Progress, Inc. submits Notice of Cancellation of 2004 NITSA with French Broad EMC.

Filed Date: 7/23/13.

Accession Number: 20130723-5043.

Comments Due: 5 p.m. ET 8/13/13.

Docket Numbers: ER13-2010-000.

Applicants: American Transmission Systems, Incorporation, PJM Interconnection, L.L.C.

Description: American Transmission Systems, Incorporated et al submits Revised OATT Attachment H-21A to be effective 9/21/2013.

Filed Date: 7/23/13.

Accession Number: 20130723-5069.

Comments Due: 5 p.m. ET 8/13/13.

Docket Numbers: ER13-2011-000.

Applicants: Southwest Power Pool, Inc.

Description: 2220R2 Broken Bow Wind II, LLC GIA to be effective6/24/2013.

Filed Date: 7/23/13.

Accession Number: 20130723-5100.

Comments Due: 5 p.m. ET 8/13/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 23, 2013.
Nathaniel J. Davis, Sr.,
Deputy Secretary.

[FR Doc. 2013-18261 Filed 7-29-13; 8:45 am]

BILLING CODE 6717-01-P